ENVIRONMENTAL PROTECTION AGENCY

[ER-FRL-9035-2]

Environmental Impact Statements; Notice of Availability

Responsible Agency: Office of Federal Activities, General Information (202) 564-7146 or http://www2.epa.gov/nepa/.

Weekly receipt of Environmental Impact Statements (EIS)

Filed 09/04/2017 Through 09/08/2017

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20170175, Final, NPS, CA, Vista Grande Drainage Basin Improvement Project, Golden Gate National Recreation Area, San Francisco and San Mateo Counties, Review Period Ends: 10/15/2017, Contact: Steven Ortega 415-561-4955.

EIS No. 20170176, Draft, DOT, LA, Final Integrated Feasibility Report and Environmental Impact Statement for the Houma Navigational Canal Deepening Project, Terrebonne Parish, Louisiana, Comment Period Ends: 10/30/2017, Contact: Patricia S. Naquin 504-862-1544.

EIS No. 20170177, Draft, AFS, SD, Black Hills Resilient Landscapes Project, Comment Period Ends: 10/30/2017, Contact: Anne Davy 406-273-1836.

Amended Notices

EIS No. 20170154, Draft, USACE, IL, The Great Lakes and Mississippi River Interbasin Study—Brandon Road, Comment Period Ends: 10/02/2017, Contact: Andrew Leichty 309-794-5399; Revision to the FR Notice Published 08/18/2017; Extending Comment Period from 10/02/2017 to 11/16/2017.

Dated: September 12, 2017.
Kelly Knight,
Director, NEPA Compliance Division, Office of Federal Activities.

[FR Doc. 2017-19665 Filed 9-14-17; 8:45 am]

BILLING CODE 6560-50-P